ENVIRONMENTAL PROTECTION AGENCY

[EPA-HQ-OPP-2014-0686; FRL-9924-14]

Spatial Aquatic Model Development; Notice of Public Meeting

AGENCY: Environmental Protection Agency (EPA).

ACTION: Notice.

SUMMARY: A Spatial Aquatic Model (SAM) workshop will be held on April 29, 2015. This Notice announces the location and time for the meeting and provides a tentative list of topics to be covered in the meeting. With the development of SAM, EPA will be able to estimate the magnitude, frequency, and duration of exposure to a chemical as well as where the exposure may occur.

DATES: The meeting will be held on April 29, 2015 from 9 a.m. to 4:00 p.m. Requests to participate in the meeting must be received on or before April 13, 2015. To request accommodation of a disability, please contact the person listed under FOR FURTHER INFORMATON CONTACT, preferably at least 10 days prior to the meeting, to give EPA as much time as possible to process your request.

ADDRESSES: The meeting will be held at the Environmental Protection Agency, Office of Pesticide Programs (OPP), One Potomac Yard (South Building), Fourth Floor Conference Center (S4370/80), 2777 S. Crystal Drive, Arlington, VA 22202.

FOR FURTHER INFORMATION CONTACT: Nelson Thurman, Environmental Fate and Effects Division, Office of Pesticide Programs, Environmental Protection Agency, 1200 Pennsylvania Ave. NW., Washington, DC 20460-0001; telephone numbers: (703) 308-0465; fax number: (703) 347-8011; email address: thurman.nelson@epa.gov.

SUPPLEMENTARY INFORMATION:

I. General Information

A. Does this action apply to me?

You may be potentially affected by this action if you are required to conduct testing of chemical substances under the Toxic Substances Control Act (TSCA), the Federal Food, Drug, and Cosmetic Act (FFDCA), or the Federal Insecticide, Fungicide, and Rodenticide Act (FIFRA). Since other entities may also be interested, the Agency has not attempted to describe all the specific entities that may be affected by this action. The following list of North American Industrial Classification System (NAICS) codes is not intended to be exhaustive, but rather provides a guide to help readers determine whether this document applies to them. Potentially affected entities may include:

• Agriculture, Forestry, Fishing and Hunting (NAICS code 11).

• Utilities (NAICS code 22).

• Professional, Scientific and Technical (NAICS code 54).

B. How can I get copies of this document and other related information?

The docket for this action, identified by docket identification (ID) number EPA-HQ-OPP-2014-0686, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

EPA is developing the SAM to provide more spatial and temporal context for pesticide aquatic exposure assessments. The model addresses the likelihood of pesticide exposure by estimating how often, how long, and where aquatic exposures occur. Following the SAM workshop in October 2014, a second SAM workshop is being held for discussion of the model and planned updates.

III. How can I request to participate in this meeting?

You may submit a request to participate in this meeting to the person listed under FOR FURTHER INFORMATION CONTACT. Do not submit any information in your request that is considered CBI. Requests to participate in the meeting, identified by docket ID number EPA-HQ-OPP-2014-0686, must be received on or before April 13, 2015.

IV. Tentative Topics for the Meeting

The workshop will provide updates for SAM since the October 2014 workshop, including data inputs and public interface. The workshop will also include feedback and discussion from the pilot testing and planned improvements to the model, including identifying pesticide application windows and accounting for time of travel.

Authority: 7 U.S.C. 136 et seq.

Dated: March 19, 2015.
Donald J. Brady,
Director, Environmental Fate and Effects Division, Office of Pesticide Programs.

[FR Doc. 2015-07645 Filed 4-2-15; 8:45 am]

BILLING CODE 6560-50-P